DEPARTMENT OF DEFENSE

Department of the Navy

Meeting of the Ocean Research and Resources Advisory Panel

AGENCY: Department of the Navy, DOD.

ACTION: Notice of open meeting.

SUMMARY: The Ocean Research and Resources Advisory Panel will meet to discuss issues of interest to the National Ocean Research Leadership Council (NORLC) and the Interagency Committee on Ocean Science and Resource Management Integration (ICOSRMI) activities. All sessions of the meeting will remain open to the public.

DATES: The meeting will be held on Monday, June 5, 2006, from 8:45 a.m. to 5:15 p.m., and Tuesday, June 6, 2006, from 9 a.m. to 3:30 p.m. In order to maintain the meeting time schedule, members of the public will be limited in their time to speak to the Panel. Members of the public should submit their comments one week in advance of the meeting to the meeting Point of Contact.

ADDRESSES: The meeting will be held at the Consortium for Oceanographic Research and Education, 1201 New York Ave, NW., Suite 420, Washington, DC 20005.

FOR FURTHER INFORMATION CONTACT: Dr. Melbourne G. Briscoe, Office of Naval Research, 875 North Randolph Street, Suite 1425, Arlington, VA 22203-1995, telephone 703-696-4120.

SUPPLEMENTARY INFORMATION: This notice of open meeting is provided in accordance with the Federal Advisory Committee Act (5 U.S.C. App. 2). The purpose of this meeting is to discuss issues of interest to the NORLC and ICOSRMI. The meeting will include discussions on bridging the gap between science and decisionmaking, the national water quality monitoring network, and other current issues in the ocean science and resource management communities.

Dated: May 9, 2006.
Eric McDonald,
Lieutenant Commander, Judge Advocate General's Corps, U.S. Navy, Federal Register Liaison Officer.

[FR Doc. E6-7396 Filed 5-15-06; 8:45 am]

BILLING CODE 3810-FF-P